LIBRARY OF CONGRESS

Copyright Royalty Board

[Docket Nos. 23-CRB-0008-CD (2022), 23-CRB-0009-SD (2022)]

Distribution of 2022 Cable Royalty Funds; Distribution of 2022 Satellite Royalty Funds

AGENCY: Copyright Royalty Board (CRB), Library of Congress.

ACTION: Notice announcing commencement of distribution proceedings with request for Petitions to Participate.

SUMMARY: The Copyright Royalty Judges (Judges) announce the commencement of proceedings to determine distribution of 2022 royalties deposited with the Copyright Office under the cable service statutory license and the satellite carrier license. The Judges also set the date by which all parties wishing to participate and share in the distribution of cable or satellite retransmission royalties for 2022, must file Petitions to Participate and pay the accompanying $150 filing fee. The Judges seek a single Petition to Participate in either or both the allocation phase and distribution phase of the cable royalty proceeding and a separate Petition to Participate in either or both the allocation phase and the distribution phase of the satellite royalty proceeding. Any party that fails to file a petition to participate by the time set forth in this notice shall not be a participant at any stage of either proceeding, unless the Judges accept a late petition to participate pursuant to 37 CFR 351.1(d).

DATES: Petitions to Participate, the filing fee, and the additional required filing are due on or before September 19, 2025.

ADDRESSES: The petition to participate form is available online in eCRB, the Copyright Royalty Board's online electronic filing application, at https://app.crb.gov/.

Instructions: The petition to participate process has been simplified. Interested parties file a petition to participate by completing and filing the petition to participate form in eCRB and paying the fee in eCRB. Do not upload a petition to participate document. Additional required information regarding claims shall be filed in eCRB separately from the form and no later than the deadline for filing the petition to participate.

Docket: For access to the dockets, go to eCRB, the Copyright Royalty Board's electronic filing and case management system, at https://app.crb.gov/, and search for Docket Nos. 23-CRB-0008-CD (2022), and 23-CRB-0009-SD (2022).

FOR FURTHER INFORMATION CONTACT: Anita Brown, CRB Program Specialist, (202) 707-7658, crb@loc.gov.

SUPPLEMENTARY INFORMATION:

Background

Twice each year, cable services and satellite carriers deposit with the Copyright Office royalties payable for the privilege of retransmitting over-the-air television and radio broadcast signals via cable and satellite. 17 U.S.C. 111, 119. The Copyright Royalty Judges (Judges) oversee distribution of the royalties to copyright owners whose works are included in the retransmissions and who have filed a timely claim for royalties. Pursuant to 17 U.S.C. 803(b)(1), the Judges hereby give notice of the commencement of proceedings for distribution of cable and satellite royalties deposited for broadcasts retransmitted in 2022 and call for interested parties to file Petitions to Participate.

Any party wishing to receive royalties payable for 2022 must file a Petition to Participate in each proceeding no later than September 22, 2025. If an interested party fails to file a Petition to Participate in response to this notice, that party will not be eligible for distribution of royalties for 2022 from either the cable or the satellite fund, unless the Judges accept a late petition to participate pursuant to 37 CFR 351.1(d). The Judges will resolve all issues relating to distribution of cable and satellite royalty funds for 2022, including existing motions regarding such funds, in these proceedings, Docket No. 23-CRB-0008-CD (2022) and Docket No. 23-CRB-0009-SD (2022). See 37 CFR 351.1(b)(2).

Commencement of Distribution Proceedings

The Judges have determined that controversies exist with regard to distribution of the cable and satellite retransmission royalties that licensees deposited for 2022. Therefore, pursuant to Section 804(b)(8) of the Copyright Act, the Judges are causing this notice to be published in the Federal Register to announce the commencement of cable and satellite distribution proceedings for 2022.

The Judges base their conclusion regarding 2022 cable and satellite fund controversies upon the entirety of the records, including the initial motions for partial distribution. Motion of the Allocation Phase Parties for Partial Distribution of 2022 Cable Royalty Funds (Motion) (eCRB no. 48242), Motion of the Allocation Phase Parties for Partial Distribution of 2022 Satellite Royalty Funds (Motion) (eCRB no. 48235).

In the present proceedings, groups of claimants have identified themselves as arranged into program categories, e.g.: Program Suppliers, Joint Sports Claimants, Public Television Claimants, Commercial Television Claimants, Devotional Claimants, Canadian Claimants Group, Multigroup Claimants, American Society of Composers, Authors and Publishers (ASCAP), Broadcast Music, Inc. (BMI), SESAC, Inc., and National Public Radio. The Judges recognize that other claimants might not be represented by joint counsel for the groups of claimants. The Judges, therefore, provide this public notice to alert anyone who claims an interest in cable or satellite retransmission royalties deposited for royalty year 2022.

In order to share in the royalties at issue, any claimant not joined in one of the groups identified above must file a Petition to Participate, individually or jointly with other claimants. If, at a later point in the proceedings, a claimant chooses to join a group participating through joint counsel, that claimant may withdraw its individual Petition to Participate. The prerequisites to participation in a distribution proceeding are (1) the filing (individually or jointly) of a timely and otherwise valid claim for each royalty year at issue and (2) the filing (individually or jointly) of a timely and otherwise valid Petition to Participate.

Only attorneys who are members in good standing of the bar of one or more states may represent parties before the Judges. All corporate parties must appear through counsel. Only if the petitioning party is an individual, may he or she represent himself or herself without legal counsel. 37 CFR 303.2.

The Judges hereby commence the proceedings for the 2022 cable funds under the captioned docket number 23-CRB-0008-CD (2022) and proceedings for 2022 satellite funds under the captioned docket number 23-CRB-0009-SD (2022).

Petitions To Participate

Parties filing Petitions to Participate must comply with the requirements of section 351.1(b) of the Copyright Royalty Board's regulations.

In addition, each Petition to Participate filing must be accompanied by a filing that sets forth for each claim year, the name of each claimant, the corresponding claim number, an indication of whether the claim is an individual or joint claim, and the program category into which the claim may fall. Each Petition to Participate shall be accompanied by a Microsoft Excel spreadsheet in electronic form consisting of the following columns: Claimant; Claim Year; Claim Number; Claim Type; Allocation Phase Category. For “Claim Type,” participants shall enter “I” for an individual claimant, “J” for a joint claimant, and “W” for a claimant listed within a joint claim. The information in the column for “Claim Category” shall be coded 1 for syndicated programming and movies, 2 for live college and professional team sports, 3 for programs produced by local commercial television stations, 4 for public broadcasting, 5 for programs of a religious or devotional character, 6 for Canadian programs retransmitted within the United States, 7 for musical works carried on broadcast television signals, and 8 for National Public Radio (all non-music content broadcast on NPR stations). Claimants' characterization of their claims at this juncture is for ease of administration only and is not dispositive of the ultimate disposition of any claim.

Petitioners who seek to categorize any claim in a category not listed in the previous paragraph shall assign a number (starting with 9) to each new category and shall include a brief description of each new proposed category. Claimants, or claimant representatives, that assert multiple claims in a given claim year shall list each claim and claim number in a separate row. Petitioners are responsible to make a sufficient showing of a “significant interest” in the royalty funds at issue to avoid dismissal of the Petition to Participate.

Claimants whose claims do not exceed $1,000 in value and who include a statement in their Petitions to Participate that they will not seek distribution of more than $1,000 may file the Petition to Participate without payment of the filing fee.

Participants should conform filed electronic documents to the Judges' Guidelines for Electronic Documents, available online at https://www.crb.gov/docs/Guidelines_for_Electronic_Documents.pdf.

Dated: August 18, 2025.
Christina L. Shifton,
Interim Chief Copyright Royalty Judge.

[FR Doc. 2025-15932 Filed 8-19-25; 8:45 am]

BILLING CODE 1410-72-P